DEPARTMENT OF JUSTICE

Notice of Lodging of Second Consent Decree Under the Clean Air Act

Notice is hereby given that on March 6, 2012, a proposed Second Consent Decree in United States and the State of Kansas v. Coffeyville Resources Refining & Marketing, LLC et. al., 04-cv-01064 (D. Kan. 2004), was lodged with the United States Court for the District of Kansas.

On June 13, 2004, the Court entered a Consent Decree in this action (Docket No. 8) that required Defendant Coffeyville Resources Refining & Marketing, L.L.C. (“CRRM”) to install certain air pollution controls to reduce emissions of oxides, sulfur dioxide and particulate matter at its oil refinery located in Coffeyville, Kansas. Under the proposed Second Consent Decree the United States and State grant CRRM an extension on installation of some of these controls. And CRRM has agreed to implement new and upgraded pollution controls; to comply with more stringent emission limits, and to follow more aggressive leak-detection and repair practices. These measures will reduce CRRM's emission of various nitrogen oxides (NOx), sulfur dioxide (SO2), volatile organic compounds, particulate matter, carbon monoxide, and other pollutants that affect air quality. CRRM will also pay approximately $970,000 in civil penalties under the Clean Air Act, the Comprehensive Environmental Response, Compensation, and Liability Act, and the Emergency Planning and Community Right-to-Know Act.

The Department of Justice will receive for a period of thirty (30) days from the date of this publication comments relating to the Second Consent Decree. Comments should be addressed to the Assistant Attorney General, Environment and Natural Resources Division, and either emailed to pubcomment-ees.enrd@usdoj.gov or mailed to P.O. Box 7611, U.S. Department of Justice, Washington, DC 20044-7611, and should refer to United States and State of Kansas v. Coffeyville Resources Refining & Marketing, LLC et. al., 04-cv-01064 (D. Kan. 2004), D.J. Ref. 90-5-1-2-07459/1.

During the public comment period, the Second Consent Decree may also be examined on the following Department of Justice Web site: http://www.usdoj.gov/enrd/Consent_Decrees.html. A copy of the Second Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $52.25 (25 cents per page reproduction cost) payable to the U.S. Treasury or, if requesting by email or fax, forward a check in that amount to the Consent Decree Library at the address given above.

Robert E. Maher, Jr.,
Assistant Chief, Environmental Enforcement Section, Environment and Natural Resources Division.

[FR Doc. 2012-6044 Filed 3-13-12; 8:45 am]

BILLING CODE 4410-15-P